NUCLEAR REGULATORY COMMISSION

10 CFR Parts 50 and 52

[NRC-2011-0189 and NRC-2014-0240]

RIN 3150-AJ49

Mitigation of Beyond-Design-Basis Events; Correction

AGENCY: Nuclear Regulatory Commission.

ACTION: Proposed rule; correction.

SUMMARY: The U.S. Nuclear Regulatory Commission (NRC) is correcting a proposed rule that it published in theFederal Register (FR) on November 13, 2015, proposing to amend its regulations that establish regulatory requirements for nuclear power reactor applicants and licensees to mitigate beyond-design-basis events. This action is necessary to correct an NRC docket ID number that was listed incorrectly.

DATES: The correction is effective November 30, 2015.

ADDRESSES: Please refer to Docket ID NRC-2014-0240 when contacting the NRC about the availability of information regarding this document. You may obtain publicly-available information related to this document using any of the following methods:

• Federal Rulemaking Web site: Go to http://www.regulations.gov and search for Docket ID NRC-2014-0240. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Timothy Reed, Office of Nuclear Reactor Regulation, telephone: 301-415-1462, email: Timothy.Reed@nrc.gov; or Eric Bowman, Office of Nuclear Reactor Regulation, telephone: 301-415-2963, email: Eric.Bowman@nrc.gov. Both are staff of the U.S. Nuclear Regulatory Commission, Washington, DC 20555-0001.

SUPPLEMENTARY INFORMATION: In the FR on November 13, 2015, in FR Doc. 2015-28589, on page 70640, in the first column, the third paragraph, the ninth line, correct “NRC-2012-0059” to read “NRC-2014-0240.”

Dated at Rockville, Maryland, this 24th day of November 2015.
For the Nuclear Regulatory Commission.
Leslie Terry,
Acting Chief, Rules, Announcements, and Directives Branch, Division of Administrative Services, Office of Administration.

[FR Doc. 2015-30258 Filed 11-27-15; 8:45 am]

BILLING CODE 7590-01-P